DEPARTMENT OF COMMERCE

National Oceanic and Atmospheric Administration

50 CFR Part 679

[Docket No. 011218304-1304-01; I.D. 011702B]

Fisheries of the Exclusive Economic Zone Off Alaska; Atka Mackerel Platoons in Areas 542 and 543

AGENCY: National Marine Fisheries Service (NMFS), National Oceanic and Atmospheric Administration (NOAA), Commerce.

ACTION: Notification

SUMMARY: NMFS is notifying operators of registered vessels of their platoon assignments for the Atka mackerel fishery in harvest limit areas (HLA) in Statistical Area (area) 542 and/or 543 of the Aleutian Islands subarea of the Bering Sea and Aleutian Islands management area (BSAI). This action is necessary to allow the harvest of the A season HLA limits established for area 542 and area 543 pursuant to the 2002 Atka mackerel total allowable catch and associated Steller sea lion protection measures.

DATES: Effective 1200 hrs, Alaska local time (A.l.t.), January 18, 2002, until 1200 hrs, A.l.t., September 1, 2002.

FOR FURTHER INFORMATION CONTACT: Andrew Smoker, 907-586-7228.

SUPPLEMENTARY INFORMATION: NMFS manages the groundfish fishery in the BSAI exclusive economic zone according to the Fishery Management Plan for the Groundfish Fishery of the Bering Sea and Aleutian Islands Area (FMP) prepared by the North Pacific Fishery Management Council under authority of the Magnuson-Stevens Fishery Conservation and Management Act. Regulations governing fishing by U.S. vessels in accordance with the FMP appear at subpart H of 50 CFR part 600 and 50 CFR part 679.

In the emergency rule implementing 2002 harvest specifications and Steller sea lion protection measures for the groundfish fisheries off Alaska (67 FR 956, January 8, 2002), NMFS established HLAs for Atka mackerel directed fishing in areas 542 and 543. Operators of vessels had until January 15, 2002, to register to fish in the HLA in area 542 and/or 543. NMFS is required to randomly assign vessels between these areas to reduce the amount of daily catch in the HLA by about half and to disperse the fishery over time.

In accordance with § 679.20(a)(8)(iii)(A), operators of eight vessels using trawl gear for directed fishing for Atka mackerel have registered with NMFS to fish in the HLA fisheries in areas 542 and/or 543. In accordance with § 679.20(a)(8)(iii)(B) the Administrator, Alaska Region has randomly assigned each vessel to the HLA directed fishery for Atka mackerel for which the vessel operators have registered and is now notifying each vessel operator of the assignment.

Vessels assigned to Platoon A that will participate in the first HLA directed fishery in area 542 and/or the second HLA directed fishery for area 543 in accordance with the vessel’s registration under § 679.20(a)(8)(iii)(A) are as follows: Federal Fishery Permit number (FFP) 2733 Seafreeze Alaska; FFP 4093 Alaska Victory; FFP 3835 Seafisher; and FFP 3819 Alaska Spirit.

Vessels assigned to Platoon B that will participate in the first HLA directed fishery in area 543 and/or the second HLA directed fishery for 542 in accordance with the vessel’s registration under § 679.20(a)(8)(iii)(A) are as follows: FFP 2443 Alaska Juris; FFP 3400 Alaska Ranger; FFP 2134 Ocean Peace; and FFP 3423 Alaska Warrior.

Classification

This action responds to the best available information. The Assistant Administrator for Fisheries, NOAA, finds that the need to immediately implement this action that notifies each vessel of their platoon assignment to allow the harvest of the A season HLA limits established for area 542 and area 543 constitutes good cause to waive the requirement to provide prior notice opportunity for public comment pursuant to the authority set forth at 5 U.S.C. 553(b)(3)(B) and 50 CFR 679.20(a)(8)(iii), as such procedures would be unnecessary and contrary to the public interest. Similarly, the need to implement these measures in a timely fashion that notifies each vessel of their platoon assignment to allow the harvest of the A season HLA limits established for area 542 and area 543 constitutes good cause to find that the effective date of this action cannot be delayed for 30 days. Accordingly, under 5 U.S.C. 553(d), a delay in the effective date is hereby waived.

This action is required by §§ 679.20 and 679.22 and is exempt from review under Executive Order 12866.

Authority: 16 U.S.C. 1801 et seq.

Dated: January 17, 2002.
Jonathan M. Kurland,
Acting Director, Office of Sustainable Fisheries, National Marine Fisheries Service.

[FR Doc. 02-1760 Filed 1-18-02; 3:05 pm]

BILLING CODE 3510-22-S